DEPARTMENT OF COMMERCE

Foreign-Trade Zones Board

[Order No. 1872]

Reorganization of Foreign-Trade Zone 93 Under Alternative Site Framework, Raleigh/Durham, NC

Pursuant to its authority under the Foreign-Trade Zones Act of June 18, 1934, as amended (19 U.S.C. 81a-81u), the Foreign-Trade Zones Board (the Board) adopts the following Order:

Whereas, the Board adopted the alternative site framework (ASF) (74 FR 1170, 01/12/2009; correction 74 FR 3987, 01/22/2009; 75 FR 71069-71070, 11/22/2010) as an option for the establishment or reorganization of general-purpose zones;

Whereas, the Triangle J Council of Governments, grantee of Foreign-Trade Zone 93, submitted an application to the Board (FTZ Docket 13, 2012, filed 03/07/2012) for authority to reorganize under the ASF with a service area of Chatham, Durham, Franklin, Granville, Harnett, Johnston, Lee, Moore, Orange, Person, Vance, Wake and Warren Counties, North Carolina, within and adjacent to the Raleigh-Durham Customs and Border Protection port of entry. Sites 1 and 1A would be renumbered as Sites 4 and 1, respectively. FTZ 93's Sites 1, 3, and 4 would be categorized as magnet sites, and FTZ 93's existing Site 2 would be categorized as a usage-driven site.

Whereas, notice inviting public comment was given in the Federal Register (77 FR 16536-16537, 03/21/12) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to reorganize FTZ 93 under the alternative site framework is approved, subject to the FTZ Act and the Board's regulations, including Section 400.13, to the Board's standard 2,000-acre activation limit for the zone, to a five-year ASF sunset provision for magnet sites that would terminate authority for Site 3 and 4 if not activated by November 30, 2017, and to a three-year sunset provision for usage-driven sites that would terminate authority for Site 2 if no foreign-status merchandise is admitted for a bona fide customs purpose by November 30, 2015.

Signed at Washington, DC, this 30th day of November 2012.
Ronald K. Lorentzen,
Acting Assistant Secretary of Commerce for Import Administration, Alternate Chairman, Foreign-Trade Zones Board.
Attest:
Andrew McGilvray,
Executive Secretary.

[FR Doc. 2012-29883 Filed 12-11-12; 8:45 am]

BILLING CODE P